DEPARTMENT OF HOUSING AND URBAN DEVELOPMENT

[Docket No. FR-5130-N-08]

Privacy Act; Proposed New Systems of Records, Real Estate Management System/Integrated Real Estate Management System (REMS/iREMS)

AGENCY: Office of the Chief Information Officer, HUD.

ACTION: Establish a new Privacy Act System of Records.

SUMMARY: HUD proposes to establish a new record system to add to its inventory of systems of records subject to the Privacy Act of 1974 (5 U.S.C. 552a), as amended. The proposed new system of records is the Real Estate Management System (REMS/iREMS). The new record system is sponsored by HUD's Office of Multifamily Housing and will be used to provide regulatory control over HUD's multifamily housing portfolio, and to ensure compliance with HUD program requirements. REMS/iREMS will also serve as the Department's repository for HUD's property portfolios of insured, subsidized, HUD-held, HUD-owned, co-insured, elderly and disabled properties, and provides portfolio management for Section 8 contracts, physical property inspection follow-up, and financial assessment reviews.

DATES: Effective Date: This action shall be effective without further notice on September 13, 2007 unless comments are received during or before this period that would result in a contrary determination.

Comments Due Date: September 13, 2007.

ADDRESSES: Interested persons are invited to submit comments regarding this notice to the Rules Docket Clerk, Office of General Counsel, Department of Housing and Urban Development, 451 Seventh Street, SW., Room 10276, Washington, DC 20410-0500. Communications should refer to the above docket number and title. A copy of each communication submitted will be available for public inspection and copying between 8 a.m. and 5 p.m. weekdays at the above address.

FOR FURTHER INFORMATION CONTACT: The Departmental Privacy Act Officer, 451 Seventh Street, SW., Room 4178, Washington, DC 20410, telephone Number (202) 708-2374 or the System Owner, 451 Seventh Street, SW., Room 6232, Washington, DC 20410, telephone number (202) 402-3297. (These are not toll-free numbers.) Telecommunication device for hearing and speech-impaired individuals (TTY) is available at (800) 877-8339 (Federal Information Relay Service).

SUPPLEMENTARY INFORMATION: Title 5 U.S.C. 552a(e)(4) and (11) provide that the public be afforded a 30-day period in which to comment on the new system of records, and require published notice of the existence and character of the system of records.

The new system report was submitted to the Office of Management and Budget (OMB), the Senate Committee on Homeland Security and Governmental Affairs, and the House Committee on Oversight and Government Reform pursuant to paragraph 4c of Appendix 1 to OMB Circular No. A-130, “Federal Responsibilities for Maintaining Records About Individuals,” July 25, 1994 (59 FR 37914).

Authority: 5 U.S.C. 552a, 88 Stat. 1896; 42 U.S.C. 3535(d).

Dated August 7, 2007.
Bajinder Paul,
Acting, Chief Information Officer.

HUD/MFH-10

System Name:

Real Estate Management System (REMS), effective Fiscal Year 2008 the new system name will be Integrated Real Estate Management System (iREMS).

System Location:

Charleston West Virginia, Philadelphia Pennsylvania (back-up facility).

Categories of individuals covered by the system:

External business partners approved to do Multifamily business with HUD (e.g., property owners, management agents, contract administrators, and owner/agent contacts. (Address, phone, fax, and e-mail)

Categories of Records in the System:

Loan Servicing information, Section 8 subsidy contract renewals, property management reviews, physical condition of multifamily properties and ownership data, workload tracking of HUD staff, Departmental Enforcement Center tracking for corrective actions/referrals, and participant/partner information. Within the participant data (owners, lessees, management agents, and sponsor/developers), the name, address, telephone number, fax number, e-mail address, and Tax ID Number or Social Security Number are stored.

Authority for maintenance of the system:

42 U.S.C. 3543, Section 165 of the Housing and Community Development Act, 24 CFR part 5(b).

Purposes:

REMS/iREMS is HUD's multifamily property management tool for the Office of Multifamily Housing (MFH), the Departmental Enforcement Center (DEC), and the Real Estate Assessment Center (REAC). REMS provides regulatory control over HUD's Multifamily housing portfolio, and ensures compliance with HUD program requirements. REMS/iREMS data is the repository of HUD's data that define the property portfolio of insured, subsidized, HUD-held, HUD-owned, co-insured, elderly and disabled properties, and provides portfolio management for Section 8 contracts, physical property inspection follow-up, and financial assessment reviews.

Routine uses of records maintained in the system, including categories of users and the purposes of such uses:

In addition to those disclosures generally permitted under 5 U.S.C. 552a(b) of the Privacy Act, other routine uses of the data are to ensure compliance with HUD regulations and business agreements:

(1) Office of Multifamily Housing—to define the portfolio of insured, subsidized, HUD-held, HUD-owned, co-insured, elderly and disabled properties; Provides portfolio management for Section 8 contracts, physical inspection follow-up and financial assessment reviews; Track property status, loan status and characteristics, Section 8 contract renewals, and financial status of property owners.

(2) Real Estate Assessment Center—to validate financial statement submissions and mortgagee inspections.

(3) Departmental Enforcement Center and Office of Affordable Housing Preservation—to track property/owner corrective action referrals.

(4) HUD Headquarters staff and Field Offices use data to uniquely identify program participants,

(5) Government National Mortgage Association (GNMA) receives monthly extracts of participant data to confirm the status of active loans.

(6) HUD Business Partners (Public Housing Authorities and Community Development Corporations serving as Performance-Based Contract Administrators (PBCAs)) will use the information to manage their assigned Section 8 contracts.

Policies and practices for storing, retrieving, accessing, retaining, and disposing of records in the system:

Storage:

The REMS/iREMS database is termed the Housing Enterprise Real Estate Management System (HEREMS) database. There are three HEREMS database servers: The main production DB server in Charleston WVA, a hot-backup copy which is updated several seconds behind the Charleston server, and a nightly created copy of the HEREMS DB from which standardized reports (created with Actuate) and Ad hoc reports (via MS Access) are retrieved. These files are stored on disk and backups are stored on tape. Manual files are stored in local field office per the records disposition schedule 18 in Handbook 2225.6 Rev-1.

Retrievability:

Information is retrieved by Property identification or Contract ID. Within these, it is possible to use screen queries to drill down into other layers of subordinate data. In some cases, participant/partner information and security system access is via name, Taxpayer Identification Number (TIN) and/or Social Security Number (SSN). However, the Property Identification or Contract ID are the primary sources used to retrieve information from the REMS/iREMS.

Safeguards:

Data can only be accessed via entry of a valid HUD User ID and Password. HUD Security access to REMS is controlled by the Web Access Subsystem (WASS), a common security module for multiple web-based applications.

Manual records from forms and printed reports are secured and stored in an enclosed office space that is accessible only to HUD personnel with a need to use/know the records content. (i.e., Records are stored in cabinets in rooms to which access is restricted to those HUD/PBCA persons performing property asset management functions. Background screening, limited authorization to specific property and technical web-based restraints are employed with regard to accessing records.

Retention and Disposal:

Property data, both current and historical is not archived or destroyed. Owner history data is maintained indefinitely to support enforcement actions and portfolio analysis. REMS/iREMS receives data primarily from other computer applications at HUD. Paper records are stored here or at the HUD Field Office. These systems follow the records disposition schedule defined in Appendix 18 of Handbook 2225.6 Rev-1.

System Manager(s) and Address:

Stephen A. Martin, Director, Office of Program Systems Management, Office of Multifamily Housing. Address: 451 Seventh Street, SW., Washington, DC 20410

Notification Procedures:

For information, assistance, or inquiry about the existence of records, contact the Privacy Act Officer at the Department of Housing and Urban Development, 451 Seventh Street, SW., Room 4178, Washington, DC 20410, in accordance with the procedures in 24 CFR part 16.

Contesting Record Procedures:

Include the following standard language: Procedures for the amendment or correction of records, and for applicants want to appeal initial agency determination appear in 24 CFR part 16. If additional information is needed, contact:

(i) In relation to contesting contents of records, the Privacy Act Officer at HUD, 451 Seventh Street, SW., Room 4178, Washington, DC 20410; and,

(ii) In relation to appeals of initial denials, HUD, Departmental Privacy Appeals Officer, Office of General Counsel, 451 Seventh Street, SW., Washington, DC 20410.

Record Source Categories:

The sources of data are contractual agreements between HUD and property owners (e.g., Regulatory Agreement, Section 8 Housing Assistance Payments (HAP) contract) and memorandums to HUD from the business partners.

Exemptions from Certain Provisions of the Act:

None.

[FR Doc. E7-15841 Filed 8-13-07; 8:45 am]

BILLING CODE 4210-67-P